DEPARTMENT OF TRANSPORTATION

Federal Aviation Administration

14 CFR Parts 121 and 135

[Docket No. FAA-2004-18477; Amendment Nos. 121-312; 135-98]

Aircraft Assembly Placard Requirements

AGENCY: Federal Aviation Administration, DOT.

ACTION: Final rule; Notice of Office of Management and Budget approval for information collection and addition of amendment numbers.

SUMMARY: This notice announces the Office of Management and Budget's (OMB) approval of the information collection requirement in the final rule published on June 29, 2004 (FR 69 39292). This notice also provides the amendment numbers for the final rule that were absent when it was published.

DATES: Final rule; Aircraft Assembly Placard Requirement was published in the Federal Register on June 29, 2004. FAA received OMB approval for the information collection requirement on November 8, 2004. The final rule becomes effective June 22, 2005.

FOR FURTHER INFORMATION CONTACT: Gary Davis, Flight Standards Service, Air Transportation Division, AFS-201A, Federal Aviation Administration, 800 Independence Avenue SW., Washington, DC 20591; telephone (202) 267-8166; facsimile (202) 267-5229; e-mail: gary.davis@faa.gov.

SUPPLEMENTARY INFORMATION:

Background

On June 29, 2004, the FAA published the Final Rule, Aircraft Assembly Placard Requirements, as instructed by an act of Congress. The rule instructed affected air carriers to display a placard with information on where the aircraft was assembled. We instructed air carriers to provide that information in one sentence on the seat-pocket cards that inform passengers of emergency procedures.

As noted in the preamble, the final rule would not become effective until the FAA received approval from OMB for the information collection that was required in the rule. In the DATES section of the final rule, we said that when that approval was received we would publish a notice in the Federal Register announcing the effective date.

In accordance with the Paperwork Reduction Act, OMB approved the FAA's request for new information collection on November 8, 2004. Please note that an agency may not conduct or sponsor, and a person is not required to respond to, a collection of information unless it displays a currently valid OMB control number. The OMB control number associated with this collection is 2120-0691. The request was approved by OMB without change and expires on November 30, 2007.

Additionally, the Final Rule was published without amendment numbers. This notice adds those amendment numbers as shown in the heading.

49 U.S.C. 106(g), 40113, 40119, 41706, 44101, 44701-44702, 44705, 44709-44711, 44713, 44716-44717, 44722, 46105, grants authority to the Administrator to publish this notice. The final rule (FR 69 39292) is effective immediately.

Issued in Washington, DC, on June 15, 2005.
Anthony F. Fazio,
Director, Office of Rulemaking.

[FR Doc. 05-12239 Filed 6-17-05; 11:35 am]

BILLING CODE 4910-13-P